DEPARTMENT OF THE TREASURY

Office of the Comptroller of the Currency

[Docket ID OCC-2013-0014]

BOARD OF GOVERNORS OF THE FEDERAL RESERVE SYSTEM

[Docket No. OP-1465]

FEDERAL DEPOSIT INSURANCE CORPORATION

NATIONAL CREDIT UNION ADMINISTRATION

BUREAU OF CONSUMER FINANCIAL PROTECTION

[Docket No. CFPB-2013-0029]

SECURITIES AND EXCHANGE COMMISSION

[Release No. 34-70731; File No. S7-08-13]

Proposed Interagency Policy Statement Establishing Joint Standards for Assessing the Diversity Policies and Practices of Entities Regulated by the Agencies and Request for Comment

AGENCY: Office of the Comptroller of the Currency (“OCC”); Board of Governors of the Federal Reserve System (“Board”); Federal Deposit Insurance Corporation (“FDIC”); National Credit Union Administration (“NCUA”); Bureau of Consumer Financial Protection (“CFPB”); and Securities and Exchange Commission (“SEC”).

ACTION: Notice of proposed interagency policy statement with request for public comment.

SUMMARY: The OCC, Board, FDIC, NCUA, CFPB, and SEC (each an “Agency” and collectively, the “Agencies”) are proposing joint standards for assessing the diversity policies and practices of the entities they regulate. Section 342 of the Dodd-Frank Wall Street Reform and Consumer Protection Act of 2010 (“Dodd-Frank Act”) ¹ directed the establishment of an Office of Minority and Women Inclusion (“OMWI Office”) in each Agency. Each OMWI Office is headed by a Director and is responsible for all Agency matters relating to diversity in management, employment, and business activities. Section 342(b)(2)(C) directs each Agency's OMWI Director to develop standards for assessing the diversity policies and practices of entities regulated by that Agency. This proposed interagency policy statement (“Statement”) identifies these proposed standards and requests comment on all aspects of this Statement.

¹ Public Law 111-203, 124 Stat. 1376, 1541 (July 11, 2010), codified as 12 U.S.C. 5452.

DATES: Comments must be received on or before December 24, 2013.

ADDRESSES: Interested parties are encouraged to submit written comments to any of the Agencies listed below. To avoid duplication, the Agencies request that commenters not submit the same comment to more than one Agency. The Agencies will share comments with each other, as appropriate.

OCC: Because paper mail in the Washington, DC area and at the OCC is subject to delay, commenters are encouraged to submit comments by email, if possible. Please use the title “Proposed Interagency Policy Statement Establishing Joint Standards For Assessing the Diversity Policies and Practices of Entities Regulated by the Agencies and Request for Comment” to facilitate the organization and distribution of the comments. You may submit comments by any of the following methods:

• Email: regs.comments@occ.treas.gov.

• Mail: Legislative and Regulatory Activities Division, Office of the Comptroller of the Currency, Mail Stop 9W-11, 400 7th Street SW., Washington, DC 20219.

• Fax: (571) 465-4326.

• Hand Delivery/Courier: 400 7th Street SW., Washington, DC 20219.

Instructions: You must include “OCC” as the agency name and “Docket ID OCC-2013-0014” in your comment. In general, the OCC will enter all comments received into the docket and publish them on the Regulations.gov Web site without change, including any business or personal information that you provide such as name and address information, email addresses, or phone numbers. Comments received, including attachments and other supporting materials, are part of the public record and subject to public disclosure. Do not enclose any information in your comment or supporting materials that you consider confidential or inappropriate for public disclosure.

You may review comments that pertain to this notice by:

Viewing Comments Personally: You may personally inspect and photocopy comments at the OCC, 400 7th Street SW., Washington, DC. For security reasons, the OCC requires that visitors make an appointment to inspect comments. You may do so by calling (202) 649-6700. Upon arrival, visitors will be required to present valid government-issued photo identification and to submit to security screening in order to inspect and photocopy comments.

Board: You may submit written comments, identified by Docket No. OP-1465, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include the docket number in the subject line of the message.

• Fax: (202) 452-3819 or 202-452-3102.

• Mail: Address to Robert deV. Frierson, Secretary, Board of Governors of the Federal Reserve System, 20th Street and Constitution Avenue NW., Washington, DC 20551.

Please send comments by one method only.

All public comments will be made available on the Board's Web site at http://www.federalreserve.gov/apps/foia/proposedregs.aspx as submitted, unless modified for technical reasons. Accordingly, comments will not be edited to remove any identifying or contact information. Public comments may also be viewed electronically or in paper in Room MP-500 of the Board's Martin Building (20th and C Streets NW.) between 9:00 a.m. and 5:00 p.m. on weekdays.

FDIC: You may submit comments by any of the following methods:

• FDIC Web site: http://www.fdic.gov/regulations/laws/federal/purpose.html. Follow instructions for submitting comments on the agency Web site.

• FDIC Email: Comments@fdic.gov. Include “Comments” on the subject line of the message.

• FDIC Mail: Robert E. Feldman, Executive Secretary, Attention: Comments, Federal Deposit Insurance Corporation, 550 17th Street NW., Washington, DC 20429.

• Hand Delivery to FDIC: Comments may be hand-delivered to the guard station at the rear of the building at 550 17th Street (located on F Street), Washington, DC, on business days between 7:00 a.m. and 5:00 p.m.

Please note: All comments received will be posted generally without change to http://www.fdic.gov/regulations/laws/federal/propose.html, including any personal information provided.

Please include your name, affiliation, address, email address and telephone number(s) in your comment. Where appropriate, comments should include a short Executive Summary (no more than five single-spaced pages). All statements received, including attachments and other supporting materials, are part of the public record and subject to public disclosure. You should submit only information that you wish to make available publicly.

NCUA: You may submit comments by any one of the following methods (please send comments by one method only):

• Federal rulemaking Portal: http://www.regulations.gov. Follow the instructions for submitting comments.

• NCUA Web site: http://www.ncua.gov/Legal/Regs/Pages/PropRegs.aspx. Follow the instructions for submitting comments.

• Email: Address to regcomments@ncua.gov. Include “[Your name]—Comments on Proposed Interagency Policy Statement Establishing Joint Standards For Assessing the Diversity Policies and Practices of Regulated Entities” in the email subject line.

• Fax: (703) 518-6319. Use the subject line described above for email.

• Mail: Address to Gerard Poliquin, Secretary of the Board, National Credit Union Administration, 1775 Duke Street, Alexandria, Virginia 22314-3428.

• Hand Delivery/Courier: Same as mail address.

Public Inspection: You can view all public comments on NCUA's Web site at http://www.ncua.gov/Legal/Regs/Pages/PropRegs.aspx as submitted, except for those we cannot post for technical reasons. NCUA will not edit or remove any identifying or contact information from the public comments submitted. You may inspect paper copies of comments in NCUA's law library at 1775 Duke Street, Alexandria, Virginia 22314, by appointment weekdays between 9:00 a.m. and 3:00 p.m. To make an appointment, call (703) 518-6546 or send an email to OGCMail@ncua.gov.

CFPB: You may submit comments, identified by Docket No. CFPB-2013-0029, by any of the following methods:

• Federal eRulemaking Portal: http://www.regulations.gov. Follow the instructions for submitting comments.

• Mail/Hand Delivery/Courier: Monica Jackson, Office of the Executive Secretary, Bureau of Consumer Financial Protection, 1700 G Street NW., Washington, DC 20552.

Instructions: All submissions must include the Agency name and docket number. In general, all comments received will be posted without change to http://www.regulations.gov. In addition, comments will be available for public inspection and copying at 1700 G Street NW., Washington, DC 20552, on official business days between the hours of 10:00 a.m. and 5:00 p.m. Eastern Time. You can make an appointment to inspect the documents by telephoning (202) 435-7275.

All comments, including attachments and other supporting materials, will become part of the public record and subject to public disclosure. Sensitive personal information, such as account numbers or social security numbers, should not be included. Comments will not be edited to remove any identifying or contact information.

SEC: Comments may be submitted by any of the following methods:

Electronic Comments:

• Use the Commission's Internet comment form (http://www.sec.gov);

• Send an email to rule-comments@sec.gov. Please include File Number S7-08-13 on the subject line; or

• Use the Federal eRulemaking Portal (http://www.regulations.gov). Follow instructions for submitting comments.

Paper Comments:

• Send paper comments in triplicate to Elizabeth M. Murphy, Secretary, Securities and Exchange Commission, 100 F Street NE., Washington, DC 20549-1090.

• All submissions should refer to File Number S7-08-13. This file number should be included on the subject line if email is used. To help us process and review your comments more efficiently, please use only one method. The Commission will post all comments on the Commission's Internet Web site (http://www.sec.gov). Comments also are available for Web site viewing and printing in the Commission's Public Reference Room, 100 F Street NE., Washington, DC 20549 on official business days between the hours of 10:00 a.m. and 3:00 p.m. All comments received will be posted without change; we do not edit personal identifying information from submissions. You should submit only information that you wish to make available publicly.

FOR FURTHER INFORMATION CONTACT: OCC: Joyce Cofield, Executive Director, Office of Minority and Women Inclusion, at (202) 649-6460 or Karen McSweeney, Senior Attorney, Law Department, at (202) 649-6295, Office of the Comptroller of the Currency, 400 7th Street SW., Washington, DC 20219.

BOARD: Sheila Clark, Director, Office of Diversity and Inclusion, at (202) 452-2883; or Katherine Wheatley, Associate General Counsel, Legal Division, at (202) 452-3779.

FDIC: Melodee Brooks, Senior Deputy Director, Office of Minority and Women Inclusion, (703) 562-6090; Henry R.F. Griffin, Assistant General Counsel, (703) 562-6404; or Michelle M. Borzillo, Senior Counsel, (703) 562-6083; or Robert Lee, Counsel, (703) 562-2020, Legal Division, Federal Deposit Insurance Corporation, 550 17th Street NW., Washington, DC 20429-0002.

NCUA: Tawana James, Director, Office of Minority and Women Inclusion, at (703) 518-1650, or Cynthia Vaughn, Diversity Outreach Program Analyst, Office of Minority and Women Inclusion, at (703) 518-1653, or Steven W. Widerman, Senior Staff Attorney, Office of General Counsel, at (703) 518-6540.

CFPB: Stuart Ishimaru, Director, Office of Minority and Women Inclusion, at (202) 435-9012, or To-Quyen Truong, Deputy General Counsel, Legal Division at (202) 435-7434, Bureau of Consumer Financial Protection, 1700 G Street NW., Washington, DC 20552.

SEC: Pamela A. Gibbs, Director, Office of Minority and Women Inclusion, (202) 551-6046, or Tracey L. McNeil, Counsel, Office of Minority and Women Inclusion, (202) 551-3392, Securities and Exchange Commission, 100 F Street NE., Washington, DC 20549.

SUPPLEMENTARY INFORMATION:

I. Background

Each Office of Minority and Women Inclusion (OMWI) is headed by a Director who is responsible for Agency matters relating to diversity in management, employment, and business activities. Section 342(b)(2)(C) requires each Agency's OMWI Director to develop standards for “assessing the diversity policies and practices of entities regulated by the agency.” Such standards take into account section 342(b)(4), which states that nothing in section 342(b)(2)(C) “may be construed to mandate any requirement on or otherwise affect the lending policies and practices of any regulated entity, or to require any specific action based on the findings of the assessment.”

The Agencies believe that a goal of section 342 is to promote transparency and awareness of diversity policies and practices within the entities regulated by the Agencies. The establishment of standards will provide guidance to the regulated entities and the public for assessing the diversity policies and practices of regulated entities. In addition, by facilitating greater awareness and transparency of the diversity policies and practices of regulated entities, the standards will provide the public a greater ability to assess diversity policies and practices of regulated entities. The Agencies recognize that greater diversity and inclusion promotes stronger, more effective, and more innovative businesses, as well as opportunities to serve a wider range of customers.

The Agencies believe that the term “assessment” encompasses many different types of assessments including self-assessment and provides an opportunity for the Agencies and the public to understand the diversity policies and practices of regulated entities. The assessment envisioned by the Agencies is not one of a traditional examination or other supervisory assessment. Thus, the Agencies will not use the examination or supervision process in connection with these proposed standards.

The Agencies are cognizant that regulated entities (a) with 100 or more employees; or (b) who are federal contractors with 50 or more employees and are prime contractors or first-tier subcontractors, with contracts of $50,000 or more are required to file an Employer Information Report EEO-1 (“EEO-1 Report”) with the Equal Employment Opportunity Commission. These reports contain data on the employment diversity at these regulated entities, and should assist the regulated entities in assessing their diversity policies and practices. We encourage regulated entities that are not required to file EEO-1 Reports to monitor and assess their diversity policies and practices and to use the proposed standards as a guide.

The OMWI Directors have worked together to develop a set of proposed standards for assessing the diversity policies and practices of entities regulated by the Agencies. In developing these standards, the Agencies took into account individual entities' circumstances (for example, asset size of the entity, number of employees, governance structure, income, number of members and/or customers, contract volume, geographic location, and community characteristics). We seek comments specifically on how we might better take into account individual entities' circumstances, especially for small regulated entities.

II. The Development of Proposed Joint Standards

During 2012, to encourage input and to learn more about diversity policies and practices, the OMWI Directors and staff held a series of roundtable discussions and teleconferences across the country with representatives of depository institutions, holding companies, credit unions, and industry trade groups. These outreach efforts served as an opportunity for regulated entities to provide input on assessment standards and for the Agencies to learn about the challenges and successes of current diversity programs and policies.

The OMWI Directors also held roundtable discussions with members of groups representing financial services professionals, communities, and consumer advocates. These meetings provided the Agencies with a greater understanding of the issues facing minorities and women with respect to employment and business contracting opportunities within the financial services industry.

Based on feedback received from the outreach sessions, the Agencies together have drafted proposed standards for assessing the diversity policies and practices of the entities regulated by the Agencies. These proposed standards address a regulated entity's employment practices and its business practices with regard to the procurement of goods and services.

The Agencies recognize that these standards may need to change and improve over time. Accordingly, the Agencies are open to ideas and input from the public to strengthen and develop this policy statement. Legal responsibility for insured depository institutions, credit unions, and depository institution holding companies shall be with the primary prudential regulator with respect to section 342 of the Dodd-Frank Act and these standards.

The proposed Statement follows.

Interagency Policy Statement Establishing Joint Standards for Assessing the Diversity Policies and Practices of Entities Regulated by the Agencies and Request for Comment

I. Introduction

Section 342 of the Dodd Frank Wall Street Reform and Consumer Protection Act of 2010 requires the Directors of the Offices of Minority and Women Inclusion (OMWI) to develop standards by which the diversity policies and practices of the entities regulated by the Office of the Comptroller of the Currency, Board of Governors of the Federal Reserve System, Federal Deposit Insurance Corporation, National Credit Union Administration, Bureau of Consumer Financial Protection, and Securities and Exchange Commission (“the Agencies”) may be assessed. To promote consistency in this area, the OMWI Directors worked together to develop joint proposed standards.

II. The Joint Standards

An assessment of diversity policies and practices of the entities regulated by the Agencies may include the factors listed below. These standards may be tailored to take into consideration an individual entity's size and other characteristics (for example, total assets, number of employees, governance structure, revenues, number of members and/or customers, contract volume, geographic location, and community characteristics).

(1) Organizational Commitment to Diversity and Inclusion

The leadership of a successful organization demonstrates its commitment to diversity and inclusion. Leadership comes from the governing body such as a board of directors, senior officials, and those managing the organization on a day-to-day basis. These standards inform how an entity promotes diversity and inclusion both in employment and contracting, and how an entity fosters a corporate culture that embraces diversity and inclusion.

Standards

In a manner reflective of the individual entity's size and other characteristics,

• The regulated entity includes diversity and inclusion considerations in both employment and contracting as an important part of its strategic plan including hiring, recruiting, retention and promotion.

• The entity has a diversity and inclusion policy that is approved and supported by senior leadership, including senior management and the board of directors.

• The entity provides regular progress reports to the board and/or senior management.

• The entity conducts equal employment opportunity and diversity and inclusion education and training on a regular and periodic basis.

• The entity has a senior level official who oversees and directs the entity's diversity efforts. For some institutions, these responsibilities are assigned to an executive-level Chief Diversity Officer (or equivalent position) with dedicated resources to support diversity strategies and initiatives. For other entities, such as smaller entities, these responsibilities are assigned to a senior officer with sufficient authority.

• The entity takes proactive steps to promote a diverse pool of candidates, including women and minorities, in its hiring, recruiting, retention, and promotion, as well as in its selection of board members, senior management, and other senior leadership positions.

(2) Workforce Profile and Employment Practices

Many entities promote the fair inclusion of minorities and women in their workforce by publicizing employment opportunities, creating relationships with minority and women professional organizations and educational institutions, creating a culture that values the contribution of all employees, and encouraging focus on these objectives when evaluating performance of managers. Entities with diversity and inclusion programs regularly evaluate their programs and identify areas that can be improved.

Entities use various analytical tools to evaluate a wide range of business objectives, including metrics to track and measure the inclusiveness of their workforce (e.g., race, ethnicity, and gender). Regulated entities that are subject to the Equal Employment Opportunity Commission (EEOC) and the Office of Federal Contract Compliance Programs (OFCCP) reporting requirements ² currently provide data and supporting documentation that serve as analytical tools to evaluate diversity and inclusion programs. For entities not subject to the EEOC and OFCCP reporting requirements, these tools may serve as valuable models for data analysis to evaluate and assess diversity efforts.

² The Employer Information Report EEO-1 (EEO-1 Report) is required to be filed annually with the EEOC by (a) private employers with 100 or more employees or (b) federal contractors who have 50 or more employees, and are prime contractors or first-tier subcontractors, with contracts of $50,000 or more.

Standards

In a manner reflective of the individual entity's size and other characteristics,

• Entities that file an annual EEO-1 Report as required by Title VII of the Civil Rights Act of 1964, or otherwise track their workforce data, use the data to evaluate and assess workforce diversity and inclusion efforts.

• Entities that prepare annual Affirmative Action Plans as required by Executive Order 11246 under the jurisdiction of the OFCCP use those plans to evaluate and assess workforce diversity and inclusion efforts.

• The entity utilizes metrics to evaluate and assess workforce diversity and inclusion efforts, such as recruitment, applicant tracking, hiring, promotions, separations (voluntary and involuntary), career development support, coaching, executive seminars and retention across all levels and occupations of the organization including executive and managerial ranks.

• The entity holds management accountable for diversity and inclusion efforts.

• The entity has policies and practices that create diverse applicant pools for both internal and external opportunities that may include:

○ Outreach to minority and women organizations;

○ Outreach to educational institutions serving significant minority and women student populations; and

○ Participation in conferences, workshops, and other events to attract minorities and women and inform them of employment and promotion opportunities.

(3) Procurement and Business Practices—Supplier Diversity

We recognize that there is limited public information available on supplier diversity at regulated entities and it may be more challenging to compare supplier diversity policies and practices among regulated entities. Some smaller institutions may also face greater challenges in gathering such information.

Companies increasingly understand the competitive advantage of using a broader choice of available businesses with benefits such as price, quality, attention to detail, and future relationship building. A number of entities have achieved success at broadening the range of available business options by increasing outreach to minority-owned and women-owned businesses.

As in the employment context, entities often use metrics to know the baseline of how much they spend on procuring goods and services and contracting for other business services, how much they spend with minority-owned and women-owned businesses, the availability of relevant minority-owned and women-owned businesses, and the growth in usage over time. Similarly, entities can use outreach methods to inform minority-owned and women-owned businesses (and affinity groups representing these constituencies) of the availability of these opportunities and the mechanism used by the entity for procurement.

In addition, entities' prime contractors often use subcontractors to fulfill the obligations of various contracts. The use of minority-owned and women-owned businesses as subcontractors provides valuable opportunities for both the minority-owned and women-owned businesses as well as for the prime contractor. The prime contractor can use this opportunity to work with minority-owned and women-owned businesses, and can expand the prime contractor's own capability under the contract. Entities can encourage the use of minority-owned and women-owned subcontractors by incorporating this objective in their business contracts.

Standards

In a manner reflective of the individual entity's size and other characteristics,

• The entity has a supplier diversity policy that provides for a fair opportunity for minority-owned and women-owned businesses to compete in procurements of business goods and services. This includes contracts of all types, including contracts for the issuance or guarantee of any debt, equity, or security, the sale of assets, the management of assets of the entity, and the making of equity investments by the entity.

• The entity has methods to evaluate and assess its supplier diversity, which may include metrics and analytics related to:

○ Annual contract spending by the entity;

○ Percentage spent with minority-owned and women-owned business contractors by race, ethnicity, and gender;

○ Percentage of contracts with minority-owned and women-owned business sub-contracts; and

○ Demographics of the workforce for contractors and subcontractors.

• The entity has practices to promote a diverse supplier pool which may include:

○ Outreach to minority-owned and women-owned contractors and representative organizations;

○ Participation in conferences, workshops and other events to attract minority-owned and women-owned firms and inform them of contracting opportunities; and

○ An ongoing process to publicize its procurement opportunities.

(4) Practices To Promote Transparency of Organizational Diversity and Inclusion

To promote the objectives of section 342, an entity's diversity and inclusion program should be transparent. Transparency and publicity can be an important aspect of assessing diversity policies and practices. Greater awareness and transparency can give members of the public information that allows them to assess those policies and practices. Entities can publicize information on their diversity and inclusion efforts through normal business methods, which can include, among other things, displaying information on their Web sites, in their promotional materials and in their annual reports to shareholders, if applicable. Making public an entity's commitment to diversity and inclusion, its plans for achieving diversity and inclusion, and its metrics used to measure success in both workplace and supplier diversity, informs a broad constituency—its investors, employees, potential employees and suppliers, customers, and the general community. Publication of this information can open new markets to new communities and can illustrate the progress that has been made toward an important business goal.

Standards

In a manner reflective of the individual entity's size and other characteristics, the regulated entity provides transparency in its activities regarding diversity and inclusion by making the following information available to the public annually through its public Web site or other appropriate communication methods:

• Its diversity and inclusion strategic plan;

• its commitment to diversity and inclusion; and

• its progress toward achieving diversity and inclusion in its workforce and procurement activities, which may include its:

○ current workforce and supplier demographic profiles;

○ current employment and procurement opportunities;

○ forecasts of potential employment and procurement opportunities; and

○ the availability and use of mentorship and developmental programs for employees and contractors.

III. Proposed Approach to Assessment

In developing the standards proposed in this Statement, the Agencies believe that the term “assessment” contemplates both self-assessment and an opportunity for the Agencies and the public to understand the diversity policies and practices of regulated entities. The assessment envisioned by the Agencies is not one of a traditional examination or other supervisory assessment. Thus, the Agencies will not use the examination or supervision process in connection with these proposed standards.

A model assessment would include:

• A self-assessment utilizing the proposed standards to conduct a quantitative and qualitative evaluation of the diversity and inclusion policies and practices, as stated in Section II (The Joint Standards).

• Voluntary disclosure to the appropriate Agency of the self-assessment and other information the entity deems relevant. The Agencies will monitor the information submitted over time for use as a resource in carrying out their diversity and inclusion responsibilities.

• The entity displays information on its public Web site and in its annual reports, and in other materials, regarding its efforts to comply with these proposed standards as an opportunity for more public awareness and understanding of its diversity policies and practices. The Agencies may periodically review information on regulated entities' public Web sites to monitor diversity and inclusion practices.

Entities that are required to file an EEO-1 Report are encouraged to use the proposed standards to develop and monitor diversity policies and practices. Entities that do not file EEO-1 Reports may also consider using the standards in a manner reflective of the individual entity's size and other characteristics.

The OMWI Directors will also continue to reach out to regulated entities and other interested parties to discuss diversity and inclusion practices and methods of assessment.

IV. Request for Comment

The Agencies request comments on all aspects of this draft policy statement, including but not limited to those set forth below. The Agencies will revise the Statement as appropriate after a review of public comments.

(1) Are the proposed joint standards effective and appropriate to promote diversity and inclusion? Why or why not? If not, what standards would be appropriate and why? How would such standards support or hinder the objectives of section 342?

(2) Are the proposed joint standards sufficiently flexible but still effective to allow meaningful assessments of entities with a wide range of particular characteristics or circumstances (for example, asset size; number of employees; contract volume; income stream; and number of members and/or customers)? Are there other ways to approach the standards for smaller entities, such as those with small contracting dollar volumes or those not required to file EEO-1 reports? What other approaches or characteristics would be appropriate for any such alternative, modified or scaled approach? How would such modification or scaling support or hinder the objectives of section 342?

(3) What other factors, if any, would be useful in assessing the diversity policies and practices of the regulated entities, and why should such factors be considered? How would such factors support or hinder the objectives of section 342?

(4) Is the proposed model approach to assessment effective and appropriate to promote diversity and inclusion? Why or why not? If not, what approach would be appropriate and why? How would such approach support or hinder the objectives of Section 342?

(5) Would there be potential advantages or disadvantages of the proposed model approach to assessment? If so, what would they be?

V. Paperwork Reduction Act

In accordance with the Paperwork Reduction Act (PRA) of 1995 (44 U.S.C. 3501 et. seq)., the Agencies have reviewed the proposed policy statement and determined that it contains no collections of information requiring approval by the Office of Management and Budget (OMB). As the Agencies consider the public comments received and finalize the policy statement, they will reevaluate this PRA determination.

Dated: October 2, 2013.
Thomas J. Curry,
Comptroller of the Currency.
By order of the Board of Governors of the Federal Reserve System, October 10, 2013.
Robert deV. Frierson,
Secretary of the Board.
Dated at Washington, DC, this 4th of October 2013.
Federal Deposit Insurance Corporation.
Robert E. Feldman,
Executive Secretary.
By the National Credit Union Administration Board on September 18, 2013.
Gerard Poliquin,
Secretary of the Board.
Dated: October 1, 2013.
Richard Cordray,
Director, Bureau of Consumer Financial Protection.
By the Securities and Exchange Commission.
Dated: October 22, 2013.
Elizabeth M. Murphy
Secretary.

[FR Doc. 2013-25142 Filed 10-24-13; 8:45 am]

BILLING CODE 4810-33-P; 6210-01-P; 6741-01-P; 7590-01-P; 4810-AM-P; 8011-01-P